DEPARTMENT OF HEALTH AND HUMAN SERVICES

National Institutes of Health

Center for Scientific Review Amended Notice of Meeting

Notice is hereby given of a change in the meeting of the Center for Scientific Review Special Emphasis Panel, July 30, 2015, 2 p.m. to July 30, 2015, 4 p.m., National Institutes of Health, 6701 Rockledge Drive, Bethesda, MD 20892 which was published in the Federal Register on July 08, 2015, 80 FR 39140.

The meeting will start at 3 p.m. and end at 5 p.m. on July 30, 2015. The meeting location remains the same. The meeting is closed to the public.

Dated: July 10, 2015.
Anna Snouffer,
Deputy Director, Office of Federal Advisory Committee Policy.

[FR Doc. 2015-17360 Filed 7-14-15; 8:45 am]

BILLING CODE 4140-01-P